DEPARTMENT OF THE INTERIOR

Bureau of Land Management

[LLNV060000.L14300000.ES0000; N-84312; 09-08807; TAS: 14X1109]

Classification and Lease for Recreation and Public Purposes Act of Public Lands in Eureka County, NV

AGENCY: Bureau of Land Management, Interior.

ACTION: Notice of Realty Action.

SUMMARY: The Bureau of Land Management (BLM) has examined and found suitable for classification for lease and subsequent conveyance under the provisions of the Recreation and Public Purposes (R&PP) Act, as amended, approximately 1.25 acres of public land in Eureka County, Nevada. The County proposes to use the land for a fire station.

DATES: Interested parties may submit written comments regarding this proposed classification and lease of public land until March 9, 2009.

ADDRESSES: Mail written comments to the BLM Manager, Mount Lewis Field Office, 50 Bastian Road, Battle Mountain, NV 89820.

FOR FURTHER INFORMATION CONTACT: Chuck Lahr, (775) 635-4000.

SUPPLEMENTARY INFORMATION: In accordance with Section 7 of the Taylor Grazing Act (43 U.S.C. 315f), and Executive Order No. 6910, the following described public land in Eureka County, Nevada, has been examined and found suitable for classification for lease and subsequent conveyance under the provisions of the R&PP Act, as amended, (43 U.S.C. 869 et seq.):

Mount Diablo Meridian, Nevada

T. 20 N., R. 53 E., Sec. 16, within Government Lot 1.

Note: This description will be replaced on completion of a resurvey and final approval of the official plat of survey.

In accordance with the R&PP Act, Eureka County filed an application to construct a fire station on approximately 1.25 acres. Additional detailed information pertaining to this application, plan of development, and site plans are in case file N-84312 located in the BLM Battle Mountain District Office.

The land is not needed for any Federal purpose. The lease and subsequent conveyance is consistent with the Shoshone/Eureka Resource Management Plan, dated February 26, 1986, and would be in the public interest. The lease and subsequent conveyance will be subject to the provisions of the R&PP Act, applicable regulations of the Secretary of the Interior, and will contain the following reservations to the United States:

1. A right-of-way thereon for ditches or canals constructed by the authority of the United States, Act of August 30, 1890 (43 U.S.C. 945); and

2. All minerals, together with the right to prospect for, mine, and remove such deposits from the same under applicable law and such regulations as the Secretary of the Interior may prescribe.

The lease/conveyance will also be subject to:

Valid existing rights.

On publication of this notice in the Federal Register the land described will be segregated from all other forms of appropriation under the public land laws, including the general mining laws, except for lease and conveyance under the R&PP Act, leasing under the mineral leasing laws, and disposals under the mineral material disposal laws.

Interested parties may submit comments involving the suitability of the land for a fire station. Comments on the classification are restricted to whether the land is physically suited for the proposal, whether the use will maximize the future use or uses of the land, whether the use is consistent with local planning and zoning, or if the use is consistent with State and Federal programs.

Interested parties may submit comments regarding the specific use proposed in the application and plan of development, whether the BLM followed proper administrative procedures in reaching the decision to lease and later convey under the R&PP Act, or any other factor not directly related to the suitability of the land for R&PP use.

Before including your address, phone number, e-mail address, or other personal identifying information in your comment, you should be aware that your entire comment—including your personal identifying information—may be made publicly available at any time. While you can ask us in your comment to withhold your personal identifying information from public review, we cannot guarantee that we will be able to do so.

Only written comments submitted by postal service or overnight mail to the BLM Manager, Mount Lewis Field Office, will be considered properly filed. Electronic mail, facsimile, or telephone comments will not be considered properly filed. Comments, including names and addresses of respondents, will be available for public review. Before including your address, telephone number, e-mail address, or other personal identifying information in your comment, be advised that your entire comment—including your personal identifying information—may be made publicly available at any time. While you can ask us in your comment to withhold your personal identifying information from public review, we cannot guarantee that we will be able to do so.

Any adverse comments will be reviewed by the BLM Nevada State Director. In the absence of any adverse comments, the classification of the land described in this notice will become effective 60 days after publication of this notice in the Federal Register. The lands will not be available for lease and conveyance until after the classification becomes effective.

Authority: 43 CFR 2741.5.

Dated: January 9, 2009.
Douglas W. Furtado,
Field Manager, Mount Lewis Field Office.

[FR Doc. E9-1026 Filed 1-16-09; 8:45 am]

BILLING CODE 4310-HC-P